DEPARTMENT OF THE INTERIOR

Fish and Wildlife Service

[FWS-R1-R-2011-N099; 1265-0000-10137-S3]

Dungeness National Wildlife Refuge, Clallam County, WA; Comprehensive Conservation Plan and Environmental Assessment

AGENCY: Fish and Wildlife Service, Interior.

ACTION: Notice of intent; request for comments.

SUMMARY: We, the U.S. Fish and Wildlife Service (Service), intend to prepare a comprehensive conservation plan (CCP) and environmental assessment (EA) for Dungeness National Wildlife Refuge (Refuge or NWR) in Clallam County, Washington. We provide this notice in compliance with our CCP policy to advise other Federal and State agencies, Tribes, and the public of our intentions and to obtain suggestions and information on the scope of issues to consider in the planning process.

DATES: To ensure consideration, please send your written comments by November 3, 2011. We will announce opportunities for public input in local news media throughout the CCP process.

ADDRESSES: Additional information concerning the refuge is available on our Web site: http://www.fws.gov/washingtonmaritime/dungeness/. Send your comments or requests for more information by any of the following methods:

E-mail: FW1PlanningComments@fws.gov. Include “Dungeness NWR CCP” in the subject line of the message.

Fax: Attn: Kevin Ryan, Project Leader, (360) 457-9778.

U.S. Mail: Kevin Ryan, Project Leader, Dungeness National Wildlife Refuge, 715 Holgerson Road, Sequim, WA 98382.

In-Person Drop-off: You may drop off comments during regular business hours at the above address.

FOR FURTHER INFORMATION CONTACT: Kevin Ryan, Project Leader, phone (360) 457-8451, or e-mail kevin_ryan@fws.gov.

SUPPLEMENTARY INFORMATION:

Introduction

With this notice, we initiate our process for developing a CCP/EA for Dungeness NWR. This notice complies with our CCP policy to (1) Advise other Federal and State agencies, Tribes, and the public of our intention to conduct detailed planning on this refuge and (2) obtain suggestions and information on the scope of issues to consider in the environmental document and during development of the CCP.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify compatible wildlife-dependent recreational opportunities available to the public, including opportunities for hunting, fishing, wildlife observation and photography, and environmental education and interpretation. We will review and update the CCP at least every 15 years in accordance with the Refuge Administration Act.

Each unit of the National Wildlife Refuge System was established for specific purposes. We use these purposes as the foundation for developing and prioritizing the management goals and objectives for each refuge within the National Wildlife Refuge System (NWRS), and to determine how the public can use each refuge. The planning process is a way for us and the public to evaluate management goals and objectives that will ensure the best possible approach to wildlife, plant, and habitat conservation, while providing for wildlife-dependent recreation opportunities that are compatible with each refuge's establishing purposes and the mission of the NWRS.

Our CCP process provides participation opportunities for the public; Tribal, State, and local governments; agencies; and organizations. At this time we encourage input in the form of issues, concerns, ideas, and suggestions for the future management of Dungeness Refuge.

We will conduct the environmental review of this project and develop an EA in accordance with the requirements of the National Environmental Policy Act of 1969, as amended (NEPA) (42 U.S.C. 4321 et seq.); NEPA regulations (40 CFR parts 1500-1508); other appropriate Federal laws and regulations; and our policies and procedures for compliance with those laws and regulations.

Dungeness Refuge

The refuge was established in 1915 as a “refuge, preserve, and breeding ground for native birds” (Executive Order 2123). The refuge's approved boundary encompasses 773 acres of sand spit, tidelands, and upland forest habitat along Washington's Strait of Juan de Fuca; of this, the Service manages 325 acres through perpetual easements and owns and manages approximately 448 acres.

Habitat types found on the refuge include beach, bluffs, coastal strand, eelgrass beds, mudflats, coastal lagoon, salt marsh, natural and constructed freshwater wetlands, and mixed conifer forests. At 5.5-miles (8.9 kilometers), Dungeness Spit is the longest natural sand spit in the United States. Graveyard Spit, which is attached to Dungeness Spit, is designated as a Research Natural Area due to the quality of its native plant community, which provides an excellent representation of coastal strand. The refuge's eelgrass beds are important over-wintering and staging areas for Brant. Numerous other birds use the refuge during migration and winter, including dabbling and diving ducks, shorebirds, and bald eagles. Dungeness Refuge also provides breeding habitat for black oystercatchers, pigeon guillemots, and forest birds. Harbor seals use the refuge to pup, haulout, and molt.

Scoping: Preliminary Issues, Concerns, and Opportunities

We have identified preliminary issues, concerns, and opportunities that we may address in the CCP. We have briefly summarized these issues below. During public scoping, we may identify additional issues.

• Should we actively manage the Dawley Unit's forest to enhance old growth forest characteristics and/or marbled murrelet habitat, and if so, how?

• Should we enhance the refuge's eelgrass beds, and/or mitigate anticipated impacts to the eelgrass beds from climate change?

• How can we reduce marine debris and derelict fishing gear on and adjacent to the refuge?

• How can we reduce the risks of and impacts from oil spills and other contaminants on the refuge?

• Which invasive species should be our highest priorities for monitoring and control measures? How can we prevent the introduction and dispersal of invasive plants and animals?

• How should we address the anticipated impacts of climate change and sea level rise on the refuge's wildlife and habitat in the CCP and environmental document?

• What research or monitoring studies are needed to improve wildlife and habitat management?

• How can we reduce human-caused wildlife disturbance impacts on and adjacent to the refuge, and improve compliance with refuge regulations?

• How can we improve the refuge's environmental and cultural education and interpretation programs, partnerships, and other priority public uses that are compatible with the refuge's conservation purposes? How can we enhance opportunities for people with disabilities to experience refuge resources?

Public Meetings

We will give the public an opportunity to provide input at a public meeting. You can obtain the schedule from our Web site or the project leader (see ADDRESSES). We will also announce the public meeting through other media outlets. In addition, you may send comments anytime during the planning process by mail, e-mail, or fax (see ADDRESSES).

Public Availability of Comments

Before including your address, phone number, e-mail address, or other personal identifying information in your comment, you should be aware that your entire comment—including your personal identifying information—may be made publicly available at any time. While you can ask us in your comment to withhold your personal identifying information from public review, we cannot guarantee that we will be able to do so.

Dated: August 16, 2011.
Robyn Thorson,
Regional Director, Region 1, Portland, Oregon.

[FR Doc. 2011-25317 Filed 10-3-11; 8:45 am]

BILLING CODE 4310-55-P